DEPARTMENT OF DEFENSE

Defense Acquisition Regulations System

[Docket Number DARS-2023-0017; OMB Control Number 0704-0246]

Information Collection Requirements; Defense Federal Acquisition Regulation Supplement; Part 245, Government Property

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by January 4, 2024.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Angela Duncan, 571-372-7574, or whs.mc-alex.esd.mbx.dd-dod-information-collections@mail.mil.

SUPPLEMENTARY INFORMATION:

Title and OMB Number: Defense Federal Acquisition Regulation Supplement (DFARS) Part 245, Government Property, related clauses in DFARS 252, and related forms in DFARS 253; OMB Control Number 0704-0246.

Type of Request: Revision of a currently approved collection.

Affected Public: Businesses or other for-profit and not-for-profit institutions.

Respondent's Obligation: Required to obtain or retain benefits.

Number of Respondents: 3,513.

Annual Responses: 454,184.

Annual Burden Hours: 47,659.

Reporting Frequency: On Occasion.

Needs and Uses: DoD has consolidated the information collection requirements for reporting Government-furnished property into a single clause at DFARS 252.245-70XX, Management and Reporting of Government Property. The clause implements an electronic process for the collection of required information for effective management and oversight of Government property. The consolidated clause does not impose any new information collection requirements; rather, it consolidates existing requirements in one location. As a result of the consolidation of Government-furnished property reporting requirements under DFARS 252.245-70XX, two associated OMB Control Numbers will be discontinued, as the reporting requirements are now included in this revision for OMB Control Number 0704-0246. The OMB Control Numbers to be discontinued are 0704-0398, DFARS Part 211, Describing Agency Needs and related clause at 252.211; and 0704-0557, DFARS Part 245, Use of the Government Property Clause for Repair of Government-furnished Property (GFP).

The revised information collection includes the following:

• DFARS clause 252.245-70XX, paragraph (b)(1), streamlines reporting of GFP requirements under the GFP module of the Procurement Integrated Enterprise Environment (PIEE) eBusiness platform. The paper form DD Form 1348-1A, Issue Release/Receipt Document, used when authorized by the plant clearance officer and outside the continental United States (OCONUS) for turn-ins to the Defense Logistics Agency disposal activities, is no longer necessary; the electronic equivalent data requirements are generated through the GFP Module of the PIEE.

• DFARS clause 252.245-70XX, paragraph (k), provides procedures for disposal of scrap. The DD Form 1639, Scrap Warranty, is completed by individuals or firms that purchase Government property for its material content from a Government contractor. The DD Form 1639, addressed in 252.245-70XX, paragraph (k)(2), is used for the sole purpose of having the purchasers warrant that the property they have purchased will be used only as scrap.

• DFARS 252.245-70XX, paragraph (l), provides procedures for sale of surplus contractor inventory.

• DFARS clause 252.245-7003, Contractor Property Management System Administration. This clause addresses the requirement for certain contractors to respond in writing to an initial or final determination from the administrative contracting officer that identifies deficiencies in the contractor's property management system. This clause is not part of the 252.245-70XX consolidation; however it continues to be covered under the OMB Control Number for this information collection.

DoD uses this information for management and oversight of Government-furnished property. DFARS clause 252.245-70XX strengthens the accountability and end-to-end traceability of Government property within DoD.

DoD Clearance Officer: Ms. Angela Duncan. Requests for copies of the information collection proposal should be sent to Ms. Duncan at whs.mc-alex.esd.mbx.dd-dod-information-collections@mail.mil.

Jennifer D. Johnson,
Editor/Publisher, Defense Acquisition Regulations System.

[FR Doc. 2023-26626 Filed 12-4-23; 8:45 am]

BILLING CODE 6001-FR-P